DEPARTMENT OF DEFENSE

Department of the Army

Intent To Grant an Exclusive License

AGENCY: Department of the Army, DoD.

ACTION: Notice.

SUMMARY: In accordance with 35 U.S.C. 209(e) and 37 CFR 404.7(a)(l)(i), announcement is made of the intent to grant an exclusive, royalty-bearing, revocable license for the U.S. Patents listed below to New England Ropes, Inc. with its principal place of business at 848 Airport road, Fall River, Massachusetts 02720.

DATES: File written objections by November 5, 2003.

FOR FURTHER INFORMATION CONTACT: Mr. Robert Rosenkrans at U.S. Army Soldier and Biological Chemical Command, Kansas Street, Natick, MA 01760, Phone; (508) 233-4928 or e-mail: Robert.Rosenkrans@natick.army.mil.

SUPPLEMENTARY INFORMATION: The exclusive licenses will be royalty bearing and will comply with the terms and conditions of 35 U.S.C. 209 and 37 CFR 404.7. The exclusive licenses may be granted, unless within fifteen (15) days from the date of this published notice, SBCCOM receives written evidence and argument to establish that the grant of the license would not be consistent with the requirements of 35 U.S.C. 209 and 37 CFR 404.7 the following Titles, Patent Numbers, and Issue dates are provided:

1. Title: Harness for Human Wear; Patent No. 6, 189,651; Issue Date: February 20, 2001.

2. Title: Harness for Human Wear; Patent No. 5,857,540; Issue Date: January 12, 1999.

3. Title: Rappel Tool for Descent of a Load and Rappel Tool and Stirrup Assembly for Ascent Along a Rappel Rope; Patent No. 6,095,282; Issue Date: August 1, 2000.

4. Title: Rappel Rope Storage and Deployment System; Patent No. 5,868,219; Issue Date: February 9, 1999.

Luz D. Ortiz,
Army Federal Register Liaison Officer.

[FR Doc. 03-26432 Filed 10-20-03; 8:45 am]

BILLING CODE 3710-08-M